SMALL BUSINESS ADMINISTRATION

Wisconsin District Advisory Council; Public Meeting

The U.S. Small Business Administration Wisconsin District Advisory Council will be hosting a meeting on Tuesday, November 15, 2005, to discuss such matters that may be presented by members, and staff of the U.S. Small Business Administration, or others present. The meeting will be held at the U.S. Small Business Administration, Wisconsin District—Milwaukee, 310 West Wisconsin Avenue, Suite 400, Milwaukee, Wisconsin.

Anyone wishing to attend must contact Cindy Merrigan in writing or by fax. Cindy Merrigan, U.S. Small Business Administration, 740 Regent Street, Suite 100, Madison, Wisconsin 53715, phone (608) 441-5560, fax (202) 481-0815, e-mail: cindy.merrigan@sba.gov.

Matthew K. Becker,
Committee Management Officer.

[FR Doc. 05-22086 Filed 11-4-05; 8:45 am]

BILLING CODE 8025-01-P